DEPARTMENT OF ENERGY

[GDO Docket No. EA-515]

Application for Authorization To Export Electric Energy; AMA QSE, LLC

AGENCY: Grid Deployment Office, Department of Energy.

ACTION: Notice of application.

SUMMARY: AMA QSE, LLC (the Applicant or “AMA”) has applied for authorization to transmit electric energy from the United States to Mexico pursuant to the Federal Power Act.

DATES: Comments, protests, or motions to intervene must be submitted on or before August 23, 2024.

ADDRESSES: Comments, protests, motions to intervene, or requests for more information should be addressed by electronic mail to Electricity.Exports@hq.doe.gov.

FOR FURTHER INFORMATION CONTACT: Janessa Zucchetto, (240) 474-8226, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export (16 U.S.C. 824a(e)). On April 10, 2023, the authority to issue such orders was delegated to the DOE's Grid Deployment Office (GDO) under Delegation Order No. S1-DEL-S3-2023 and Redelegation Order No. S3-DEL-GD1-2023.

On June 4, 2024, AMA QSE, LLC filed an application (Application or App.) with DOE to transmit electric energy from the United States to Mexico for a five-year term. App. at 1-2.

According to the Application, AMA QSE, LLC is “authorized to do business in the State of Texas and such other states as required by the current nature of its business.” App. at 2. AMA states it “does not currently own or control electric generation or transmission facilities and does not have a power supply of its own in the United States[.]” Id. at 4. The Applicant represents that it is “authorized by the Federal Energy Regulatory Commission (“FERC”) to make sales of electric power at wholesale in interstate commerce at market-based rates.” Id. at 2. Further, AMA QSE, LLC states it “will purchase the energy to be exported from wholesale generators, electrical utilities, and federal power marketing agencies.” Id. The Applicant adds that it will purchase the electricity “through negotiated agreements that have been voluntarily executed by the selling parties after considering their own need for any such electricity.” Id. at 4-5. The Applicant also notes its transactions will comply with all applicable regulatory requirements, including any export limits imposed by DOE. See Id. at 5-6. The Applicant asserts its “exports will not impair or tend to impede the sufficiency of electric power supplies in the United States or the regional coordination of electric utility planning or operations.” Id. at 3.

The existing international transmission facilities to be utilized by the Applicant have been previously authorized by Presidential permits issued pursuant to Executive Order 10485, as amended, and are appropriate for open access transmission by third parties. See App. at Exhibit C.

Procedural Matters: Any person desiring to be heard in this proceeding should file a comment or protest to the Application at Electricity.Exports@ hq.doe.gov. Protests should be filed in accordance with Rule 211 of FERC's Rules of Practice and Procedure (18 CFR 385.211). Any person desiring to become a party to this proceeding should file a motion to intervene at the previously provided email address in accordance with FERC Rule 214 (18 CFR 385.214).

Comments and other filings concerning AMA QSE, LLC's Application should be clearly marked with GDO Docket No. EA-515. Additional copies are to be provided directly to Juan I. Romo, AMA QSE, LLC, 401 Franklin Street, Suite 2400-115, Houston, TX 77002, jromo@ammper.com; Frederick G. Jauss IV, Husch Blackwell LLP, 1801 Pennsylvania Avenue NW, Suite 1000, Washington, DC 20006-3606, fred.jauss@huschblackwell.com; and Michael Blackwell, Husch Blackwell LLP, 1801 Pennsylvania Avenue NW, Suite 1000, Washington, DC 20006-3606, michael.blackwell@huschblackwell.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications-0 or by emailing Electricity.Exports@hq.doe.gov.

Signing Authority: This document of the Department of Energy was signed on July 18, 2024, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on July 19, 2024.
Treena V. Garrett,
Federal Register Liaison Officer, U.S. Department of Energy.

[FR Doc. 2024-16271 Filed 7-23-24; 8:45 am]

BILLING CODE 6450-01-P